DEPARTMENT OF TRANSPORTATION

Maritime Administration

[Docket No. DOT-MARAD-2023-0088]

Request for Comments on the Renewal of a Previously Approved Information Collection: Information To Determine Seamen's Reemployment Rights—National Emergency

AGENCY: Maritime Administration.

ACTION: Notice.

SUMMARY: The Maritime Administration (MARAD) invites public comments on our intention to request the Office of Management and Budget (OMB) approval to renew an information collection in accordance with the Paperwork Reduction Act of 1995. The proposed collection OMB 2133-0526 (Information to Determine Seamen's Reemployment Rights—National Emergency) will be used to determine if U.S. civilian mariners are eligible for reemployment rights under the Maritime Security Act of 1996. The Paperwork Reduction Act of 1995 requires that we publish this notice in the Federal Register to obtain comments from the public and affected agencies.

DATES: Comments must be submitted on or before July 3, 2023.

ADDRESSES: You may submit comments identified by Docket No. DOT-MARAD-2023-0088 through one of the following methods:

• Federal eRulemaking Portal: www.regulations.gov. Search using the above DOT docket number and follow the online instructions for submitting comments.

• Mail or Hand Delivery: Docket Management Facility, U.S. Department of Transportation, 1200 New Jersey Avenue SE, West Building, Room W12-140, Washington, DC 20590, between 9 a.m. and 5 p.m., Monday through Friday, except on Federal holidays.

Instructions: All submissions must include the agency name and docket number for this rulemaking.

Note: All comments received will be posted without change to www.regulations.gov including any personal information provided.

Comments are invited on: (a) whether the proposed collection of information is necessary for the Department's performance; (b) the accuracy of the estimated burden; (c) ways for the Department to enhance the quality, utility and clarity of the information collection; and (d) ways that the burden could be minimized without reducing the quality of the collected information. The agency will summarize and/or include your comments in the request for OMB's clearance of this information collection.

FOR FURTHER INFORMATION CONTACT: Matthew Mueller, 202-366-7173, careersafloat@dot.gov. U.S. Department of Transportation, Maritime Administration, 1200 New Jersey Avenue SE, MAR-650, Mail Stop 2, Washington, DC 20590.

SUPPLEMENTARY INFORMATION:

Title: Information to Determine Seamen's Reemployment Rights—National Emergency.

OMB Control Number: 2133-0526.

Type of Request: Renewal of a previously approved collection.

Abstract: This information collection is needed in order to implement provisions of the Maritime Security Act of 1996. These provisions grant re-employment rights and other benefits to certain merchant seamen serving aboard vessels used by the United States during times of national emergencies. The Maritime Security Act of 1996 establishes the procedures for obtaining the necessary MARAD certification for re-employment rights and other benefits.

Respondents: Individual U.S. citizen mariners, currently working ashore, who possess U.S. Coast Guard merchant mariner credentials and serve on U.S. vessels in time of national emergency.

Affected Public: U.S. merchant seamen who have completed designated national service during a time of maritime mobilization need and are seeking re-employment with a prior employer.

Estimated Number of Respondents: 10.

Estimated Number of Responses: 10.

Estimated Hours per Response: 1.

Annual Estimated Total Annual Burden Hours: 10.

Frequency of Response: Annually.

(Authority: The Paperwork Reduction Act of 1995; 44 U.S.C. chapter 35, as amended; and 49 CFR 1.49.)

* * * * *

By Order of the Acting Maritime Administrator.
T. Mitchell Hudson, Jr.,
Secretary, Maritime Administration.

[FR Doc. 2023-09280 Filed 5-1-23; 8:45 am]

BILLING CODE 4910-81-P